DEPARTMENT OF HOMELAND SECURITY

U.S. Citizenship and Immigration Services

[CIS No. 2493-10; DHS Docket No. USCIS-2010-0005]

RIN 1615-ZA97

Filing Procedures and Automatic Extension of Employment Authorization and Related Documentation for Liberians Provided Deferred Enforced Departure

AGENCY: U.S. Citizenship and Immigration Services, Department of Homeland Security.

ACTION: Notice.

SUMMARY: On March 18, 2010, President Obama issued a memorandum to the Secretary of Homeland Security (the Secretary), Janet Napolitano, directing the Secretary to extend for an additional 18 months the deferred enforced departure (DED) of certain Liberians and to provide for work authorization during that period. The extension runs from April 1, 2010, through September 30, 2011. This notice announces an automatic 6-month extension of current employment authorization documents (EADs) held by Liberians whose DED has been extended under the presidential memorandum and informs eligible Liberians and their employers how to determine which EADs are automatically extended. This notice also provides instructions for eligible Liberians on how to apply for the full 18-month extension of employment authorization. Finally, this notice provides instructions for DED-eligible Liberians on how to apply for permission to travel outside the United States during the 18-month DED period.

DATES: This notice is effective April 1, 2010. The 6-month automatic extension of employment authorization for Liberians who are eligible for DED, including the extension of their EADs, as specified in this notice, is effective on April 1, 2010. This automatic extension will expire on September 30, 2010. The 18-month extension of DED is valid through September 30, 2011.

FOR FURTHER INFORMATION CONTACT: • For further information on DED, including guidance on the application process for employment authorization and additional information on eligibility, please visit the USCIS Web site at http://www.uscis.gov. Under the heading “Humanitarian” select “Temporary Protected Status” from the homepage. You can then choose the DED page or the Liberian-specific page. You can find detailed information about this DED extension on our Web site at the Liberian Questions & Answers Section.

• You can also contact the DED Operations Program Manager, Service Center Operations Directorate, U.S. Citizenship and Immigration Services, Department of Homeland Security, 20 Massachusetts Avenue, NW., Washington, DC 20529-2060, telephone (202) 272-1533. This is not a toll-free call. Note: the phone number provided here is solely for questions regarding this Federal Register notice. It is not for individual case status inquiries. Applicants seeking information about the status of individual cases can check Case Status Online available at the USCIS Web site at http://www.uscis.gov, or call the USCIS National Customer Service Center at 1-800-375-5283 (TTY 1-800-767-1833).

• Further information will also be available at local USCIS offices upon publication of this notice.

SUPPLEMENTARY INFORMATION:

Presidential Memorandum Extending DED for Certain Liberians

In accordance with his constitutional authority to conduct the foreign relations of the United States, President Obama has directed that Liberians (and eligible persons without nationality who last resided in Liberia) who are physically present in the United States and who held TPS on September 30, 2007, and are under a grant of DED through March 31, 2010, be provided DED for an additional 18-month period after their current DED status ends. See Memorandum from President Obama to the Secretary of Homeland Security dated March 18, 2010 (“Presidential Memorandum”). The President also directed the Secretary to implement the necessary steps to authorize employment authorization for eligible Liberians for 18 months from April 1, 2010, through September 30, 2011.

Employment Authorization and Filing Requirements

How Will I Know if I Am Eligible for Employment Authorization Under the Presidential Memorandum That Extended DED for Certain Liberians for 18 Months?

The DED extension and the procedures for employment authorization in this notice apply to Liberian nationals (and persons without nationality who last habitually resided in Liberia) who were covered by DED through March 31, 2010. Such individuals include only Liberians who are physically present in the United States, held TPS on September 30, 2007, and are under a grant of DED through March 31, 2010.

This DED extension does not include any individual:

• Who would be ineligible for TPS for the reasons provided in section 244(c)(2)(B) of the Immigration and Nationality Act (INA), 8 U.S.C. 1254a(c)(2)(B);

• Whose removal the Secretary of Homeland Security determines is in the interest of the United States;

• Whose presence or activities in the United States the Secretary of State has reasonable grounds to believe would have potentially serious adverse foreign policy consequences for the United States;

• Who has voluntarily returned to Liberia or his or her country of last habitual residence outside the United States;

• Who was deported, excluded, or removed prior to March 18, 2010; or

• Who is subject to extradition.

What Will I Need To File if I Am Covered by DED and Would Like To Have Evidence of Employment Authorization?

If you are covered under DED for Liberia, and would like employment authorization during the 18-month extension of DED, you must apply for an Employment Authorization Document (EAD) on Form I-765, Application for Employment Authorization. You must file Form I-765 with USCIS during the DED extension period that begins on April 1, 2010. Please carefully follow the Form I-765 instructions when completing the application for an EAD. On Form I-765, you must:

• Indicate that you are eligible for DED; and

• Include a copy of your last Form I-797, Notice of Action, showing that you were approved for TPS as of September 30, 2007, if such copy is available. (Please note that evidence of TPS as of September 30, 2007, is necessary to show that you were covered under the previous DED for Liberia through March 31, 2010.

How Will I Know if I Will Need To Obtain Biometrics?

If biometrics are required to produce the secure EAD, you will be notified by USCIS and scheduled for an appointment at a USCIS Application Support Center. The new EAD will be valid through September 30, 2011.

Where Do I Submit My Completed Form I-765?

Please submit your completed Form I-765 and supporting documentation to: USCIS, Attn: DED Liberia, P.O. Box 8677, Chicago, IL 60680-8677.

Can I File My Form I-765 Electronically?

No. Electronic filing is not available for filing Form I-765 based on DED.

Extension of Employment Authorization and EADs

May I Request an Interim EAD at My Local Office?

No. Local USCIS offices will not issue interim EADs to individuals eligible for DED under the Presidential Memorandum.

Am I Eligible To Receive an Automatic 6-Month EAD Extension From April 1, 2010, Through September 30, 2010?

You are eligible for an automatic 6-month extension of your EAD if you are a national of Liberia (or person having no nationality who last habitually resided in Liberia), and you are currently covered by DED through March 31, 2010.

This automatic extension covers EADs issued on Form I-766, Employment Authorization Document, bearing an expiration date of March 31, 2010. These EADs must also bear the notation “A-11” on the face of the card under “Category.”

What Documents May a Qualified Individual Show to His or Her Employer through September 30, 2010, as Proof of Employment Authorization and Identity When Completing Form I-9?

During the first 6 months, qualified individuals who have received a 6-month automatic extension of their EADs covered under this Federal Register notice may present their automatically extended Form I-766 with an expiration date of March 31, 2010, to their employers as proof of employment authorization and identity. The EAD must bear the notation “A-11” on the face of the card under “Category.” To minimize confusion over this automatic extension at the time of hire or re-verification, qualified individuals may also present a copy of this Federal Register notice regarding the automatic extension of EADs through September 30, 2010.

What Documents May a Qualified Individual Show to His or Her Employer After September 30, 2010, as Proof of Employment Authorization and Identity When Completing Form I-9?

After September 30, 2010, individuals covered under this notice may present their EADs on Form I-766 with an expiration date of September 30, 2011, to their employers as proof of employment authorization and identity. The EAD will bear the notation “A-11” on the face of the card under “Category.” After September 30, 2010, employers may not accept EADs without a valid date.

Employers should not request proof of Liberian citizenship. Employers should accept EADs as valid “List A” documents. Employers should not ask for additional Form I-9 documentation if presented with an EAD that is valid pursuant to this Federal Register notice, and the EAD reasonably appears on its face to be genuine and to relate to the employee. Employees also may present any other legally acceptable document or combination of documents listed on Form I-9 as proof of identity and employment eligibility.

Note to Employers: Employers are reminded that the laws requiring employment eligibility verification and prohibiting unfair immigration-related employment practices remain in full force. This notice does not supersede or in any way limit applicable employment verification rules and policy guidance, including those rules setting forth re-verification requirements. For questions, employers may call the USCIS Customer Assistance Office at 1-800-357-2099. Employers may also call the U.S. Department of Justice Office of Special Counsel for Immigration Related Unfair Employment Practices (OSC) Employer Hotline at 1-800-255-8155. Additional information is available on the OSC Web site at http://www.justice.gov/crt/osc/.

Note to Employees: Employees or applicants may call the OSC Employee Hotline at 1-800-255-7688 for information. Additional information is available on the OSC Web site at http://www.justice.gov/crt/osc/.

Travel Authorization and Advance Parole

Individuals covered under DED who want to travel outside of the United States must apply for and receive advance parole by filing Form I-131, Application for Travel Document, with required fees before departing the United States. See 8 CFR 223.2(a). The determination whether to grant advance parole is within the discretion of the Department of Homeland Security and is not guaranteed in all cases. If you seek advance parole in order to go to Liberia, you may risk being found ineligible to re-enter the United States under DED because the President's memorandum excludes persons “who have voluntarily returned to Liberia.”

You may submit your completed Form I-131 with your Form I-765. If you choose to file a Form I-131 separately, please submit the application along with supporting documentation that you qualify for DED to: USCIS, Attn: DED Liberia, P.O. Box 8677, Chicago, IL 60680-8677.

If you have a pending or approved I-765, please submit the I-797 notice of receipt or approval along with your Form I-131 and supporting documentation.

Dated: March 24, 2010.
Alejandro Mayorkas,
Director, U.S. Citzenship and Immigration Services.

[FR Doc. 2010-7115 Filed 3-29-10; 8:45 am]

BILLING CODE 9111-97-P